NUCLEAR REGULATORY COMMISSION

[NRC-2016-0256]

Biweekly Notice; Applications and Amendments to Facility Operating Licenses and Combined Licenses Involving No Significant Hazards Considerations; Correction

AGENCY: Nuclear Regulatory Commission.

ACTION: Biweekly notice; correction.

SUMMARY: The U.S. Nuclear Regulatory Commission (NRC) is correcting a notice that was published in the Federal Register (FR) on December 20, 2016, regarding notice of issuance of amendments to facility operating licenses and combined licenses. This action is necessary to correct an administrative error.

DATES: The correction is effective February 10, 2017.

ADDRESSES: Please refer to Docket ID NRC-2016-0256 when contacting the NRC about the availability of information regarding this document. You may obtain publicly-available information related to this document using any of the following methods:

• Federal Rulemaking Web site: Go to http://www.regulations.gov and search for Docket ID NRC-2016-0256. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Perry Buckberg, Office of Nuclear Reactor Regulation, U.S. Nuclear Regulatory Commission, Washington, DC 20555-0001; telephone: 301-415-1383, email: Perry.Buckberg@nrc.gov.

SUPPLEMENTARY INFORMATION: In the FR on December 20, 2016 (81 FR 92863), FR Doc. 2016-256, on page 92877, in the top of the first column, under “Florida Power & Light Company, et al., Docket Nos. 50-335 and 50-389, St. Lucie Plant, Unit Nos. 1 and 2, St. Lucie County, Florida,” after “Date of amendment request,” the date “April 31, 2016” is corrected to read “April 29, 2016.” In the middle of the same column, under “Amendment Nos.,” “236 and 186” are changed to “237 and 187.”

Dated at Rockville, Maryland, this 2nd day of February 2017.
For the Nuclear Regulatory Commission.
Kathryn M. Brock,
Deputy Director, Division of Operating Reactor Licensing, Office of Nuclear Reactor Regulation.

[FR Doc. 2017-02793 Filed 2-9-17; 8:45 am]

BILLING CODE 7590-01-P